DEPARTMENT OF TRANSPORTATION

Federal Motor Carrier Safety Administration

[Docket No. FMCSA-2007-26852]

Notice of Request To Revise a Currently-Approved Information Collection: Request for Revocation of Authority Granted

AGENCY: Federal Motor Carrier Safety Administration (FMCSA), DOT.

ACTION: Notice; and request for comments.

SUMMARY: In accordance with the Paperwork Reduction Act of 1995 (PRA), FMCSA announces its plan to submit to the Office of Management and Budget (OMB) its request to revise a currently-approved information collection (IC) entitled, “Request for Revocation of Authority Granted,” docketed as OMB Control Number 2126-0018. This information collection notifies the FMCSA of a voluntary request by a motor carrier, freight forwarder, or property broker to amend or revoke its registration of authority granted. FMCSA will seek OMB's review and approval of this revised IC and invites public comment on this request. The Paperwork Reduction Act requires the publication of this notice.

DATES: We must receive your comments on or before June 4, 2007.

ADDRESSES: You may submit comments identified by any of the following methods. Please identify your comments by the FMCSA Docket Number FMCSA-2007-26852.

• Web site: http://dms.dot.gov. Follow instructions for submitting comments to the Docket.

• Fax: 202-493-2251.

• Mail: U.S. Department of Transportation, Docket Management Facility, 400 Seventh Street, SW., Plaza level, Washington, DC 20590-0001.

• Hand Delivery: Plaza level of the Nassif Bulding, 400 Seventh Street, SW., Washington, DC 20590-0001, between 9 a.m. and 5 p.m., e.t., Monday through Friday, except Federal holidays.

Docket: For access to the Docket Management System (DMS) to read background documents or comments received, go to http://dms.dot.gov at any time or to the plaza level of the Nassif Building, 400 Seventh Street, SW., Washington, DC 20590-0001, between 9 a.m. and 5 p.m., e.t., Monday through Friday, except Federal holidays. The DMS is available electronically 24 hours each day, 365 days each year. If you desire notification of receipt of your comments, please include a self-addressed, stamped envelope, or postcard or print the acknowledgement page that appears after submitting comments online.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Ms. Stephanie Haller, Supervisory Transportation Specialist, Commercial Enforcement Division, Department of Transportation, Federal Motor Carrier Safety Administration, 400 Seventh Street, SW., Washington, DC 20590-0001. Telephone Number: (202) 385-2362; E-mail Address: Stephanie.haller@dot.gov. Office hours are from 8 a.m. to 5 p.m., e.t., Monday through Friday, except Federal holidays.

SUPPLEMENTARY INFORMATION: Title: Request for Revocation of Authority Granted.

OMB Approval Number: 2126-0018.

Type of Request: Revision of a currently-approved information collection. This IC is being revised due to an increase in the number of Form OCE-46s filings from 1,000 to 3,250 per year.

Form Number: OCE-46.

Respondents: Motor carriers, freight forwarders and property brokers.

Estimated Number of Respondents: 3,250.

Estimated Time Per Response: 15 minutes.

Expiration Date: June 30, 2007.

Frequency of Response: On occasion.

Estimated Total Annual Burden: 813 hours [3,250 annual Form OCE-46 filers × 15 minutes/60 minutes per filing = 812.5 hours, rounded to 813 hours].

Background: Title 49 of the United States Code (U.S.C.) authorizes the Secretary of Transportation (Secretary) to promulgate regulations governing the registration of for-hire motor carriers of regulated commodities (49 U.S.C. 13902), surface transportation freight forwarders (49 U.S.C. 13903), and property brokers (49 U.S.C. 13904). The FMCSA carries out this registration program under authority delegated by the Secretary. Under 49 U.S.C. 13905, each registration is effective from the date specified and remains in effect for such period as the Secretary determines appropriate by regulation. Section 13905(c) of title 49, U.S.C., grants the Secretary the authority to amend or revoke a registration at the registrant's request. On complaint, or on the Secretary's own initiative, the Secretary may also suspend, amend, or revoke any part of the registration of a motor carrier, broker, or freight forwarder for willful failure to comply with the regulations, an order of the Secretary, or a condition of its registration.

Form OCE-46 is used by transportation entities to voluntarily apply for revocation of their registration authority in whole or in part. FMCSA uses the form to seek information concerning the registrant's docket number, name and address, and the reasons for the revocation request.

Public Comments Invited: You are asked to comment on any aspect of this revised information collection request, including: (1) The necessity and usefulness of the information collection for the FMCSA to meet its goal in reducing truck crashes; (2) the accuracy of the estimated burdens; (3) ways to enhance the quality, usefulness, and clarity of the collected information; and (4) ways to minimize the collection burden without reducing the quality of the collected information. The agency will summarize and/or include your comments in the request for OMB's clearance of this information collection.

Authority: 49 U.S.C. 13902, 13903, 13904 and 13905; and 49 CFR 1.73.

Issued on: March 28, 2007.
Rose A. McMurray,
Chief Safety Officer, Assistant Administrator.

[FR Doc. E7-6140 Filed 4-2-07; 8:45 am]

BILLING CODE 4910-EX-P